DEPARTMENT OF COMMERCE

National Oceanic and Atmospheric Administration

RIN 0648-XB020

Gulf of Mexico Fishery Management Council; Public Meetings

AGENCY: National Marine Fisheries Service (NMFS), National Oceanic and Atmospheric Administration (NOAA), Commerce.

ACTION: Notice of public meetings.

SUMMARY: The Gulf of Mexico Fishery Management Council will convene three Web based meetings of the ABC Control Rule Working Group.

DATES: The first Webinar meeting will convene on Thursday, March 8, 2012. The second Webinar meeting will convene on Thursday, March 15, 2012. The third Webinar meeting will convene on Thursday, March 22, 2012. Each Webinar will begin at 12 noon eastern time and is expected end by 4 p.m.

ADDRESSES: The Webinars will be accessible via Internet. Please go to the Gulf of Mexico Fishery Management Council's Web site at www.gulfcouncil.org for instructions.

Council address: Gulf of Mexico Fishery Management Council, 2203 N. Lois Avenue Suite 1100, Tampa, FL 33607.

FOR FURTHER INFORMATION CONTACT: Steven Atran, Population Dynamics Statistician; Gulf of Mexico Fishery Management Council; telephone: (813) 348-1630.

SUPPLEMENTARY INFORMATION: The ABC Control Rule Working Group will meet to discuss potential revisions to the acceptable biological catch (ABC) control rule that was recently implemented as part of the Council's Generic Annual Catch Limits/Accountability Measures Amendment. While all areas of the control rule will be subject to review, particular attention will be given to whether the P-star approach used to determine ABC in Tier 1 of the control rule realistically captures scientific uncertainty, and possible revisions to the Tier 2 method for data poor stocks. Recommendations from the Working Group will be presented to the Scientific and Statistical Committee when it meets in late March.

Copies of the agenda and other related materials can be obtained by calling (813) 348-1630. Materials will also be available to download from the ABC Control Rule Working Group folder of the Council's FTP site, which is accessible from the Quick Links section of the Council Web site (http://www.gulfcouncil.org).

Although other non-emergency issues not on the agenda may come before the ABC Control Rule Working Group for discussion, in accordance with the Magnuson-Stevens Fishery Conservation and Management Act, those issues may not be the subject of formal action during these meetings. Actions of the Working Group will be restricted to those issues specifically identified in the agenda and any issues arising after publication of this notice that require emergency action under Section 305(c) of the Magnuson-Stevens Fishery Conservation and Management Act, provided the public has been notified of the Council's intent to take action to address the emergency.

Special Accommodations

These Webinars are accessible to people with disabilities. For assistance with any of our Webinars contact Kathy Pereira at the Council (see ADDRESSES) at least 5 working days prior to the Webinar.

Dated: February 15, 2012.
Tracey L. Thompson,
Acting Director, Office of Sustainable Fisheries, National Marine Fisheries Service.

[FR Doc. 2012-3951 Filed 2-17-12; 8:45 am]

BILLING CODE 3510-22-P